DEPARTMENT OF THE INTERIOR

National Park Service

Notice of Intent To Prepare a General Management Plan and Environmental Impact Statement for Cumberland Gap National Historical Park (KY, TN, VA)

SUMMARY: Pursuant to section 102(2)(c) of the National Environmental Policy Act of 1969 (NEPA), the National Park Service (Service) will prepare an Environmental Impact Statement (EIS) on the General Management Plan for Cumberland Gap National Historical Park. The EIS will assess potential environmental impacts associated with various types and levels of visitor use and resources management within the National Historical Park. This General Management Plan/EIS is being prepared in response to the requirements of the National Parks and Recreation Act of 1978, Public Law 95-625, and in accord with Director's Order Number 2, the planning directive for NPS units.

The NPS will conduct public scoping meetings in the local area to receive input from interested parties on issues, concerns, and suggestions pertinent to the management of Cumberland Gap National Historical Park. Representatives of the NPS will be available to discuss issues, resource concerns, and the planning process at each of the public meetings. Suggestions and ideas for managing the cultural and natural resources and visitor experiences at the park are encouraged.

DATES: Locations, dates, and times of public scoping meetings will be published in local newspapers and may also be obtained by contacting the park Superintendent. This information will also be published on the General Management Plan web site for Cumberland Gap, http://www.nps.gov/cuga.

ADDRESSES: Scoping suggestions should be submitted to the following address to ensure adequate consideration by the NPS: Superintendent, Cumberland Gap National Historical Park, P.O. Box 1848, Middlesboro, Kentucky 40965, Telephone: 606-248-2817, Email: CUGA_Superintendent@nps.gov.

FOR FURTHER INFORMATION CONTACT: Superintendent, Cumberland Gap National Historical Park, P.O. Box 1848, Middlesboro, Kentucky 40965, Telephone: 606-248-2817, Email: CUGA_Superintendent@nps.gov.

SUPPLEMENTARY INFORMATION: Cumberland Gap National Historical Park is located on the tri-state boundaries of Kentucky, Virginia, and Tennessee. The park was authorized on June 11, 1940, and now consists of over 20,000 acres. The park lies in four counties in the three states, ranges from 1 to 4 miles in width, and stretches for 20 miles astride the forested Cumberland Mountain. Fourteen thousand acres in the park are managed as wilderness. The Cumberland Gap itself is a natural notch in the mountain ridge. It was this low passageway that provided access for travel among American Indian tribes and access for Daniel Boone and hundreds of thousands of settlers who poured into the west in the late 18th and early 19th centuries.

The Gap continued to serve as a strategic transportation corridor during the Civil War and during the late 19th-century period of intense industrial development. Today the Cumberland Gap Tunnel provides easy and safe vehicular travel among the connecting states, and the historic corridor has been returned to its natural topography. Visitors are able to walk in the footsteps of pioneers along the Wilderness Road through the restored Gap.

Public documents associated with the planning effort, including all newsletters, will be posted on the Internet through the park's website at http://www.nps.gov/cuga.

The Draft and Final General Management Plan/EIS will be made available to all known interested parties and appropriate agencies. Full public participation by Federal, State, and local agencies as well as other concerned organizations and private citizens is invited throughout the preparation process of this document. Please note that due to public disclosure requirements, the NPS, if requested, will make the names and addresses of those who submit written comments public. Anonymous comments will not be considered; however, individual respondents may request that we withhold their names and addresses from the public record. If you wish to withhold your name and/or address, you must state that request prominently at the beginning of your comment. We will make all submissions from organizations or businesses, and from individuals identifying themselves as representatives or officials of organizations or businesses, available for public inspection in their entirety.

The responsible official for this Environmental Impact Statement is William W. Schenk, Regional Director, Southeast Region, National Park Service, 100 Alabama Street SW., 1924 Building, Atlanta, Georgia 30303.

Dated: April 18, 2003.
Charlie Powell,
Acting Regional Director, Southeast Region.

[FR Doc. 03-13334 Filed 5-28-03; 8:45 am]

BILLING CODE 4310-26-P